DEPARTMENT OF ENERGY

Federal Energy Regulatory Commission

[Docket No. ER00-325-002, et al.]

Southern Company Services, Inc., et al.; Electric Rate and Corporate Regulation Filings

April 17, 2001.

Correction

In notice document 01-10080 beginning on page 20651 in the issue of Tuesday, April 24, 2001, make the following correction:

On page 20652, in the first column, in the third line from the bottom, the docket number should read “ER01-1778-000”.

[FR Doc. C1-10080 Filed 5-2-01; 8:45 am]

BILLING CODE 1505-01-D

DEPARTMENT OF THE TREASURY

Customs Service

Quarterly IRS Interest Rates Used In Calculating Interest on Overdue Accounts and Refunds on Customs Duties

Correction

In notice document 01-9647 beginning on page 20173 in the issue of Thursday, April 19, 2001, make the following correction:

On page 20174, in the second column, in the second paragraph, in the first sentence, “IRB 136” is corrected to read “IRB 936”.

[FR Doc. C1-9647 Filed 5-2-01; 8:45 am]

BILLING CODE 1505-01-D

DEPARTMENT OF THE TREASURY

Internal Revenue Service

26 CFR Part 1

[TD 8940]

RIN 1545-AY73

Purchase Price Allocation in Deemed and Actual Asset Acquisitions; Correction

Correction

In rule document 01-7934 beginning on page 17362 in the issue of Friday, March 30, 2001, make the following correction:

On page 17363, in the table under the column heading “Add”, in the second line, “§1.338&--2(c)(17)” is corrected to read “§1.338-2(c)(17)”.

[FR Doc. C1-7934 Filed 5-2-01; 8:45 am]

BILLING CODE 1505-01-D